DEPARTMENT OF JUSTICE

Bureau of Prisons

Annual Determination of Average Cost of Incarceration Fee (COIF)

AGENCY: Bureau of Prisons, Justice.

ACTION: Notice.

SUMMARY: This Notice publishes the Fiscal Year (FY) 2018 Cost of Incarceration Fee (COIF) for Federal inmates. (Note: There were 365 days in FY 2018.)

DATES: November 19, 2019.

ADDRESSES: Office of General Counsel, Federal Bureau of Prisons, 320 First St. NW, Washington, DC 20534.

FOR FURTHER INFORMATION CONTACT: Sarah Qureshi, (202) 353-8248.

SUPPLEMENTARY INFORMATION: Title 28 of the Code of Federal Regulations, part 505, allows for assessment of a fee to cover the average cost of incarceration for Federal inmates. We calculate the cost of incarceration fee (COIF) by dividing the number representing the Bureau of Prisons (Bureau) facilities' monetary obligation (excluding activation costs) by the number of inmate-days incurred for the fiscal year, and then by multiplying the quotient by the number of days in the fiscal year. Based on FY 2018 data, FY 2018 COIF was $37,449.00 ($102.60 per day) for Federal inmates in Bureau facilities and $34,492.50 ($94.50 per day) for Federal inmates in Community Corrections Centers.

Ken Hyle,
Assistant Director/General Counsel, Federal Bureau of Prisons.

[FR Doc. 2019-24942 Filed 11-18-19; 8:45 am]

BILLING CODE 4410-05-P